DEPARTMENT OF JUSTICE

Notice of Lodging of Proposed Consent Decree Under the Comprehensive Environmental Response, Compensation, and Liability Act

On September 22, 2016, the Department of Justice lodged a proposed consent decree with the United States District Court for the Eastern District of North Carolina in the lawsuit entitled United States v. North Georgia Electric Membership Corporation et al., Civil Action No. 5:16-cv-00820-FL.

The United States, on behalf of the U.S. Environmental Protection Agency (“EPA”), filed this lawsuit under the Comprehensive Environmental Response, Compensation and Liability Act (“CERCLA”). The complaint, which names 173 parties as defendants, seeks performance of a remedial design and remedial action at the Ward Transformer Superfund Site in Raleigh, North Carolina, along with the recovery of costs that the United States incurred for response activities undertaken at the Site. The proposed consent decree requires the 173 defendants to fund and perform the remedial action that EPA selected for Operable Unit 1 of the Site. In return, the United States agrees not to sue the defendants under sections 106 and 107 of CERCLA relating to the Site. The proposed consent decree also requires the United States, on behalf of the Army, Air Force, and Navy, and the Tennessee Valley Authority to fund a portion of the remedial action, and requires settling defendant Carr & Duff, Inc., to pay a $40,000 civil penalty in connection with its failure to comply with a 2011 cleanup order issued by EPA.

The publication of this notice opens a period for public comment on the consent decree. Comments should be addressed to the Assistant Attorney General, Environment and Natural Resources Division, and should refer to United States v. North Georgia Electric Membership Corporation et al., D.J. Ref. No. 90-11-2-07152/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $125.75 (25 cents per page reproduction cost) payable to the United States Treasury. For a paper copy without signature pages or Appendix F (Operable Unit 1 Record of Decision), the cost is $19.25.

Henry S. Friedman,
Assistant Section Chief, Environmental Enforcement Section, Environment and Natural Resources Division.

[FR Doc. 2016-23386 Filed 9-27-16; 8:45 am]

BILLING CODE 4410-15-P